DEPARTMENT OF JUSTICE

Notice of Lodging of Consent Decree Under the Comprehensive Environmental Response, Compensation, and Liability Act

The United States Department of Justice is re-issuing this notice because of a typographical error in the original notice, which was published on June 7, 2006 (71 FR 33001). The original notice mis-stated the amount to be paid by PPG Industries, Inc. under one of the two proposed consent decrees. This republication does not alter the public comment period, which remains a thirty-day period beginning June 7, 2006.

Under 42 U.S.C. 9622(d)(2), 9622(g)(12) and 28 CFR 50.7, notice is hereby given that on May 26, 2006, two proposed Consent Decrees in United States v. Industrial Excess Landfill, Inc., Civil Action Number 5:89-CV-1988 (consolidated with State of Ohio v. Industrial Excess Landfill, Inc., Civil Action Number 5:91-CV-2559), were lodged with the United States District Court for the Northern District of Ohio.

The first Consent Decree resolves claims against PPG Industries, Inc. (“PPG”), brought by the United States on behalf of the Environmental Protection Agency (“EPA”) under section 107 of the Comprehensive Environmental Response, Compensation, and Liability Act (“CERCLA”), 42 U.S.C. 9607, for response costs incurred and to be incurred by the United States in responding to the release and threatened release of hazardous substances at the Industrial Excess Landfill Superfund Site (“Site”) in Uniontown, Ohio. Under its Consent Decree, PPG will pay the United States $752,500 in reimbursement of response costs.

The second Consent Decree resolves claims against Morgan Adhesives Co. (“Morgan”), brought by the United States on behalf of the Environmental Protection Agency under section 107 of CERCLA, 42 U.S.C. 9607, for response costs incurred and to be incurred by the United States in responding to the release and threatened release of hazardous substances at the Site, as well as CERCLA and other claims related to the Site brought against Morgan by the State of Ohio. Under its Consent Decree, Morgan will pay the United States $334,016 in reimbursement of response costs and will pay the State of Ohio $15,984 in reimbursement of response costs.

Both Consent Decrees are de minimis settlements pursuant to section 122(g)(1)(A) of CERCLA, 42 U.S.C. 9622(g)(1)(A). Under the respective Consent Decree, the United States covenants not to sue PPG, and the United States and the State of Ohio covenant not to sue Morgan, regarding the Site, subject to reservations of rights should information be discovered which indicates that a settling defendant no longer qualifies as a de minimis party, as well as reservations commonly included in CERCLA settlements of all rights with respect to certain other claims.

The Department of Justice will receive, for a period of thirty (30) days from the date of this publication, comments relating to the Consent Decree. Comments should be addressed to the Assistant Attorney General, Environment and Natural Resources Division, P.O. Box 7611, U.S. Department of Justice, Washington, DC 20044-7611, and should refer to United States v. Industrial Excess Landfill, Inc., DOJ Ref. #90-11-3-247/2.

Each Consent Decree may be examined at the Office of the United States Attorney, Northern District of Ohio, 801 West Superior Avenue, Suite 400, Cleveland, Ohio 44113, and the Region 5 Office of the Environmental Protection Agency, 77 W. Jackson Blvd., Chicago, Illinois 60604. During the public comment period, each Consent Decree may also be examined on the following Department of Justice Web site: http://www.usdoj.gov/enrd/open.html.

A copy of each Consent Decree may also be obtained by mail from the Consent Decree Library, P.O. Box 7611, U.S. Department of Justice, Washington, DC 20044-7611, or by faxing or e-mailing a request to Tonia Fleetwood, tonia.fleetwood@usdoj.gov, Fax No. (202) 514-0097, phone confirmation number (202) 514-1547. In requesting a copy from the Consent Decree library, please specify whether requesting the PPG Consent Decree, the Morgan Consent Decree, or both, and please enclose a check payable to the U.S. Treasury in the amount of $5.50 for the PPG Consent Decree, $6.25 for the Morgan Consent Decree, or $11.75 for both Consent Decrees (for reproduction costs of 25 cents per page).

William D. Brighton,
Assistant Section Chief, Environmental Enforcement Section, Environment and Natural Resources Division.

[FR Doc. 06-5769 Filed 6-27-06; 8:45 am]

BILLING CODE 4410-15-M